ENVIRONMENTAL PROTECTION AGENCY

[FRL-9900-95—Region 5]

Proposed Listing of Additional Waters To Be Included on Indiana's 2010 List of Impaired Waters Under the Clean Water Act

AGENCY: Environmental Protection Agency (EPA).

ACTION: Reopening of comment period.

SUMMARY: EPA is reopening the comment period for its notice which announces the availability of EPA's proposed decision identifying water quality limited segments and associated pollutants in Indiana to be listed pursuant to the Clean Water Act Section 303(d)(2), and requests public comment. For additional information regarding this action, please refer to EPA's original public notice published at 78 Federal Register 35929 (June 14, 2013), which is available at https://federalregister.gov/a/2013-14192.

DATES: Comments on this document must be received in writing by October 15, 2013.

ADDRESSES: Written comments on this notice may be submitted to Tinka Hyde, Director, Water Division, Attn: Indiana's 303(d) list, U.S. Environmental Protection Agency, 77 West Jackson Boulevard, Chicago, Illinois 60604. Alternatively, comments may be submitted electronically to the following email address: rivera-carrero.vilma@epa.gov.

FOR FURTHER INFORMATION CONTACT: Vilma Rivera-Carrero, Watersheds and Wetlands Branch, at the EPA address noted above or by telephone at (312) 886-7795.

SUPPLEMENTARY INFORMATION: Additional information related to this notice can also be found at http://www.epa.gov/region5/water/impairedwatersin/index.html.

Dated: August 29, 2013.
Tim Henry,
Acting Director, Water Division, EPA Region 5.

[FR Doc. 2013-22348 Filed 9-12-13; 8:45 am]

BILLING CODE 6560-50-P